DEPARTMENT OF TRANSPORTATION

Federal Aviation Administration

14 CFR Part 97

[Docket No. 30745; Amdt. No. 3392]

Standard Instrument Approach Procedures, and Takeoff Minimums and Obstacle Departure Procedures; Miscellaneous Amendments

AGENCY: Federal Aviation Administration (FAA), DOT.

ACTION: Final rule.

SUMMARY: This establishes, amends, suspends, or revokes Standard Instrument Approach Procedures (SIAPs) and associated Takeoff Minimums and Obstacle Departure Procedures for operations at certain airports. These regulatory actions are needed because of the adoption of new or revised criteria, or because of changes occurring in the National Airspace System, such as the commissioning of new navigational facilities, adding new obstacles, or changing air traffic requirements. These changes are designed to provide safe and efficient use of the navigable airspace and to promote safe flight operations under instrument flight rules at the affected airports.

DATES: This rule is effective September 30, 2010. The compliance date for each SIAP, associated Takeoff Minimums, and ODP is specified in the amendatory provisions.

The incorporation by reference of certain publications listed in the regulations is approved by the Director of the Federal Register as of September 30, 2010.

ADDRESSES: Availability of matters incorporated by reference in the amendment is as follows:

For Examination—

1. FAA Rules Docket, FAA Headquarters Building, 800 Independence Avenue, SW., Washington, DC 20591;

2. The FAA Regional Office of the region in which the affected airport is located;

3. The National Flight Procedures Office, 6500 South MacArthur Blvd., Oklahoma City, OK 73169 or

4. The National Archives and Records Administration (NARA). For information on the availability of this material at NARA, call 202-741-6030, or go to: http://www.archives.gov/federal_register/code_of_federal_regulations/ibr_locations.html.

Availability—All SIAPs and Takeoff Minimums and ODPs are available online free of charge. Visit http://www.nfdc.faa.gov to register. Additionally, individual SIAP and Takeoff Minimums and ODP copies may be obtained from:

1. FAA Public Inquiry Center (APA-200), FAA Headquarters Building, 800 Independence Avenue, SW., Washington, DC 20591; or

2. The FAA Regional Office of the region in which the affected airport is located.

FOR FURTHER INFORMATION CONTACT: Harry J. Hodges, Flight Procedure Standards Branch (AFS-420), Flight Technologies and Programs Divisions, Flight Standards Service, Federal Aviation Administration, Mike Monroney Aeronautical Center, 6500 South MacArthur Blvd. Oklahoma City, OK 73169 (Mail Address: P.O. Box 25082, Oklahoma City, OK 73125) Telephone: (405) 954-4164.

SUPPLEMENTARY INFORMATION: This rule amends title 14 of the Code of Federal Regulations, part 97 (14 CFR part 97), by establishing, amending, suspending, or revoking SIAPS, Takeoff Minimums and/or ODPS. The complete regulators description of each SIAP and its associated Takeoff Minimums or ODP for an identified airport is listed on FAA form documents which are incorporated by reference in this amendment under 5 U.S.C. 552(a), 1 CFR part 51, and 14 CFR 97.20. The applicable FAA Forms are FAA Forms 8260-3, 8260-4, 8260-5, 8260-15A, and 8260-15B when required by an entry on 8260-15A.

The large number of SIAPs, Takeoff Minimums and ODPs, in addition to their complex nature and the need for a special format make publication in the Federal Register expensive and impractical. Furthermore, airmen do not use the regulatory text of the SIAPs, Takeoff Minimums or ODPs, but instead refer to their depiction on charts printed by publishers of aeronautical materials. The advantages of incorporation by reference are realized and publication of the complete description of each SIAP, Takeoff Minimums and ODP listed on FAA forms is unnecessary. This amendment provides the affected CFR sections and specifies the types of SIAPs and the effective dates of the, associated Takeoff Minimums and ODPs. This amendment also identifies the airport and its location, the procedure, and the amendment number.

The Rule

This amendment to 14 CFR part 97 is effective upon publication of each separate SIAP, Takeoff Minimums and ODP as contained in the transmittal. Some SIAP and Takeoff Minimums and textual ODP amendments may have been issued previously by the FAA in a Flight Data Center (FDC) Notice to Airmen (NOTAM) as an emergency action of immediate flight safety relating directly to published aeronautical charts. The circumstances which created the need for some SIAP and Takeoff Minimums and ODP amendments may require making them effective in less than 30 days. For the remaining SIAPS and Takeoff Minimums and ODPS, an effective date at least 30 days after publication is provided.

Further, the SIAPs and Takeoff Minimums and ODPS contained in this amendment are based on the criteria contained in the U.S. Standard for Terminal Instrument Procedures (TERPS). In developing these SIAPS and Takeoff Minimums and ODPs, the TERPS criteria were applied to the conditions existing or anticipated at the affected airports. Because of the close and immediate relationship between these SIAPs, Takeoff Minimums and ODPs, and safety in air commerce, I find that notice and public procedures before adopting these SIAPS, Takeoff Minimums and ODPs are impracticable and contrary to the public interest and, where applicable, that good cause exists for making some SIAPs effective in less than 30 days.

Conclusion

The FAA has determined that this regulation only involves an established body of technical regulations for which frequent and routine amendments are necessary to keep them operationally current. It, therefore—(1) is not a “significant regulatory action” under Executive Order 12866; (2) is not a “significant rule” under DOT Regulatory Policies and Procedures (44 FR 11034; February 26,1979); and (3) does not warrant preparation of a regulatory evaluation as the anticipated impact is so minimal. For the same reason, the FAA certifies that this amendment will not have a significant economic impact on a substantial number of small entities under the criteria of the Regulatory Flexibility Act.

List of Subjects in 14 CFR Part 97

Air Traffic Control, Airports, Incorporation by reference, and Navigation (Air).

Issued in Washington, DC, on September 17, 2010.
John M. Allen,
Director, Flight Standards Service.

Adoption of the Amendment

Accordingly, pursuant to the authority delegated to me, title 14, Code of Federal Regulations, part 97 (14 CFR part 97) is amended by establishing, amending, suspending, or revoking Standard Instrument Approach Procedures and/or Takeoff Minimums and/or Obstacle Departure Procedures effective at 0902 UTC on the dates specified, as follows:

PART 97—STANDARD INSTRUMENT APPROACH PROCEDURES

1. The authority citation for part 97 continues to read as follows:

Authority: 49 U.S.C. 106(g), 40103, 40106, 40113, 40114, 40120, 44502, 44514, 44701, 44719, 44721-44722.

2. Part 97 is amended to read as follows:

Effective October 21 2010

Daytona Beach, FL, Daytona Beach Intl, RNAV (GPS) Z RWY 7L, Orig-B

Lewiston, ID, Lewiston-Nez Perce County, RNAV (RNP) RWY 30, Orig-A

Rock Hill, SC, Rock Hill/York Co/Bryant Field, ILS OR LOC RWY 2, Amdt 1A

Effective November 18, 2010

Atmore, AL, Atmore Muni, Takeoff Minimums and Obstacle DP, Amdt 1

Batesville, AR, Batesville Rgnl, Takeoff Minimums and Obstacle DP, Amdt 3

Batesville, AR, Batesville Rgnl, LOC RWY 8, Amdt 1

Batesville, AR, Batesville Rgnl, RNAV (GPS) RWY 8, Amdt 1A

Batesville, AR, Batesville Rgnl, RNAV (GPS) RWY 26, Amdt 1

Springdale, AR, Springdale Muni, Takeoff Minimums and Obstacle DP, Amdt 5

Rifle, CO, Garfield County Rgnl, ILS RWY 26, Amdt 2

Rifle, CO, Garfield County Rgnl, LOC/DME-A, Amdt 8

Rifle, CO, Garfield County Rgnl, RNAV (GPS) W RWY 26, Amdt 1

Rifle, CO, Garfield County Rgnl, RNAV (GPS) X RWY 26, Amdt 1

Rifle, CO, Garfield County Rgnl, RNAV (GPS) Y RWY 8, Amdt 1

Rifle, CO, Garfield County Rgnl, RNAV (RNP) Y RWY 26, Amdt 1

Rifle, CO, Garfield County Rgnl, RNAV (RNP) Z RWY 8, Amdt 1

Rifle, CO, Garfield County Rgnl, RNAV (RNP) Z RWY 26, Amdt 1

Rifle, CO, Garfield County Rgnl, SQUAT THREE GRAPHIC OBSTACLE DP

Rifle, CO, Garfield County Rgnl, Takeoff Minimums and Obstacle DP, Amdt 9

Rifle, CO, Garfield County Rgnl, VOR/DME-C, Amdt 2

Augusta, GA, Augusta Rgnl at Bush Field, RNAV (GPS)-A, Orig

Valdosta, GA, Valdosta Rgnl, ILS OR LOC RWY 35, Amdt 7

Valdosta, GA, Valdosta Rgnl, RNAV (GPS) RWY 4, Orig

Valdosta, GA, Valdosta Rgnl, RNAV (GPS) RWY 17, Amdt 1

Valdosta, GA, Valdosta Rgnl, RNAV (GPS) RWY 35, Amdt 1

Valdosta, GA, Valdosta Rgnl, Takeoff Minimums and Obstacle DP, Amdt 2

Flora, IL, Flora Muni, Takeoff Minimums and Obstacle DP, Amdt 2

Litchfield, IL, Litchfield Muni, NDB RWY 9, Amdt 6, CANCELLED

Litchfield, IL, Litchfield Muni, NDB RWY 27, Amdt 8, CANCELLED

Johnson, KS, Stanton County Muni, NDB RWY 17, Amdt 2

Johnson, KS, Stanton County Muni, RNAV (GPS) RWY 17, Amdt 1

Johnson, KS, Stanton County Muni, RNAV (GPS) RWY 35, Amdt 1

Johnson, KS, Stanton County Muni, Takeoff Minimums and Obstacle DP, Orig

Olathe, KS, Johnson County Executive, RNAV (GPS) RWY 36, Amdt 1A

Bowling Green. KY. Bowling Green-Warren County Rgnl, Takeoff Minimums and Obstacle DP, Amdt 2

Minden, LA, Minden-Webster, Takeoff Minimums and Obstacle DP, Orig

Cumberland, MD, Greater Cumberland Rgnl, Takeoff Minimums and Obstacle DP, Amdt 5

West Plains, MO, West Plains Rgnl, RNAV (GPS) RWY 18, Amdt 1

West Plains, MO, West Plains Rgnl, RNAV (GPS) RWY 36, Amdt 1

West Plains, MO, West Plains Rgnl, Takeoff Minimums and Obstacle DP, Amdt 1

West Plains, MO, West Plains Rgnl, VOR RWY 36, Amdt 1

Tunica, MS, Tunica Muni, Takeoff Minimums and Obstacle DP, Amdt 2

Valley City, ND, Barnes County Muni, NDB OR GPS RWY 31, Amdt 3, CANCELLED

Portales, NM, Portales Muni, NDB RWY 1, Amdt 1, CANCELLED

Bucyrus, OH, Port Bucyrus-Crawford County, Takeoff Minimums and Obstacle DP, Amdt 2

Cleveland, OH, Burke Lakefront, Takeoff Minimums and Obstacle DP, Amdt 5

Cleveland, OH, Cleveland-Hopkins Intl, Takeoff Minimums and Obstacle DP, Amdt 16

Cleveland, OH, Cuyahoga County, Takeoff Minimums and Obstacle DP, Amdt 1

Lima, OH, Lima Allen County, ILS OR LOC RWY 28, Amdt 4A

Lima, OH, Lima Allen County, RNAV (GPS) RWY 28, Amdt 1A

Lima, OH, Lima Allen County, VOR RWY 28, Amdt 16A

Medina, OH, Medina Muni, Takeoff Minimums and Obstacle DP, Amdt 4

Mt. Gilead, OH, Morrow County, Takeoff Minimums and Obstacle DP, Amdt 2

Napoleon, OH, Henry County, Takeoff Minimums and Obstacle DP, Orig

Painesville, OH, Concord Airpark, Takeoff Minimums and Obstacle DP, Amdt 3

Tiffin, OH, Seneca County, RNAV (GPS) RWY 6, Orig-A

Tiffin, OH, Seneca County, VOR RWY 6, Amdt 9A

Van Wert, OH, Van Wert County, NDB RWY 9, Amdt 3A

Willoughby, OH, Willoughby Lost Nation Muni, Takeoff Minimums and Obstacle DP, Amdt 3

Perry, OK, Perry Muni, Takeoff Minimums and Obstacle DP, Orig

Arlington, TX, Arlington Muni, ILS OR LOC/DME RWY 34, Amdt 1

Arlington, TX, Arlington Muni, RNAV (GPS) RWY 34, Amdt 2

Arlington, TX, Arlington Muni, VOR/DME RWY 34, Amdt 2

College Station, TX, Easterwood Field, RNAV (GPS) RWY 10, Orig-A

College Station, TX, Easterwood Field, VOR OR TACAN RWY 10, Amdt 19A

Jasper, TX, Jasper County-Bell Field, NDB RWY 18, Amdt 10, CANCELLED

Toledo, WA, Ed Carlson Memorial Field-South Lewis Co, ATASY ONE Graphic Obstacle DP

Toledo, WA, Ed Carlson Memorial Field-South Lewis Co, RNAV (GPS) RWY 6, Orig

Toledo, WA, Ed Carlson Memorial Field-South Lewis Co, RNAV (GPS) RWY 24, Orig

Toledo, WA, Ed Carlson Memorial Field-South Lewis Co, Takeoff Minimums and Obstacle DP, Orig

Eagle River, WI, Eagle River Union, NDB RWY 22, Amdt 6, CANCELLED

Wausau, WI, Wausau Downtown, Takeoff Minimums and Obstacle DP, Amdt 5

Williamson, WV, Mingo County Rgnl, Takeoff Minimums and Obstacle DP, Orig

[FR Doc. 2010-24119 Filed 9-29-10; 8:45 am]

BILLING CODE 4910-13-P